DEPARTMENT OF HOMELAND SECURITY

Coast Guard

33 CFR Part 151

[USCG-2004-19621]

RIN 1625-AA89

Dry Cargo Residue Discharges in the Great Lakes; Notice of Public Meeting

AGENCY: Coast Guard, DHS.

ACTION: Notice of public meetings.

SUMMARY: The Coast Guard announces that public meetings for the May 23, 2008 notice of proposed rulemaking (NPRM) on dry cargo residue discharges in the Great Lakes and its supporting Draft Environmental Impact Statement (DEIS) will be held in Duluth, Minnesota, and Cleveland, Ohio, in July 2008. The proposed rule would allow the continued discharge of certain non-toxic and non-hazardous bulk dry cargo residues in the Great Lakes. Existing prohibitions on discharges in certain areas would be continued, and additional sensitive and protected areas would be defined as no-discharge zones. Recordkeeping and reporting requirements would be imposed, and the voluntary use of measures to control residues would be encouraged.

DATES: The public meetings will be held on the following dates:

• Duluth, MN, July 15, 2008 from 1 p.m. to 5 p.m.

• Cleveland, OH, July 17, 2008 from 1 p.m. to 5 p.m.

The previously announced deadline for receiving public comments on the Coast Guard's notice of proposed rulemaking (NPRM) and DEIS is July 22, 2008.

ADDRESSES: The Coast Guard will hold the public meetings at the following addresses:

• Duluth: Holiday Inn, 200 West First Street, Duluth, MN 55802, phone 218-727-7492.

• Cleveland: The Forum Conference Center, One Cleveland Center, 1375 East Ninth Street, Cleveland, OH 44114, phone 216-241-6338.

You may also submit comments identified by Coast Guard docket number USCG-2004-19621 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Fax: 202-493-2251.

(4) Hand delivery: Room W12-140 on the Ground Floor of the West Building, 1200 New Jersey Avenue, SE., Washington, DC 20590, between 9 a.m. and 5 p.m., Monday through Friday, except Federal holidays. The telephone number is 202-366-9329.

FOR FURTHER INFORMATION CONTACT: If you have questions on this notice, contact LT Heather St. Pierre, Project Manager, Environmental Standards Division, Coast Guard, via telephone at 202-372-1432 or via e-mail at Heather.J.St.Pierre@uscg.mil. If you have questions on viewing or submitting material to the docket, call Renee V. Wright, Program Manager, Docket Operations, telephone 202-493-0402.

SUPPLEMENTARY INFORMATION:

Comment Submissions

In the NPRM published May 23, 2008 (73 FR 30014), we previously requested public comments and provided information on how to submit them in writing. All written comments received will be posted, without change, to www.Regulations.gov and will include any personal information you have provided. Please see the NPRM for additional information on submission of written comments.

Public Meetings

The Coast Guard encourages you to attend either the Duluth or the Cleveland meeting. These meetings will be open to the public, up to the capacity of the meeting spaces. Please note that either meeting may close early if all business is finished. Oral comments will be transcribed and the transcript will be made available in the docket at www.Regulations.gov. We will also accept written comments at both meetings and will enter them in the docket. See “Comment Submissions” if you are unable to attend a meeting but would still like to comment in writing on the NPRM.

Information on Services for Individuals With Disabilities

If you plan to attend one of the public meetings and require special assistance, such as sign language interpretation or other reasonable accommodations, please contact us as indicated in FOR FURTHER INFORMATION CONTACT.

Dated: June 2, 2008.
Jeffrey G. Lantz,
Director of Commercial Regulations and Standards, United States Coast Guard.

[FR Doc. E8-12651 Filed 6-5-08; 8:45 am]

BILLING CODE 4910-15-P